DEPARTMENT OF HEALTH AND HUMAN SERVICES

National Committee on Vital and Health Statistics; Meeting

Pursuant to the Federal Advisory Committee Act, the Department of Health and Human Services (HHS) announces the following advisory committee meeting.

Name: National Committee on Vital and Health Statistics (NCVHS), Subcommittee on Standards and Security (SSS).

Time and Date: April 4, 2006 9 a.m.-5 p.m., April 5, 2006 9 a.m.-5 p.m.

Place: Hubert H. Humphrey Building, 200 Independence Avenue, SW., Room 505A, Washington, DC 20201.

Status: Open.

Purpose: The Subcommittee's agenda for the morning of April 4 will include a briefing on the newly issued HIPAA Enforcement Final rule and an update from the Designated Standards Maintenance Organizations (DMSOs) on the status of version 5010 of the American Standards Committee (ASC) X12837 Health Care Service: Data Reporting Guide. The morning will conclude with a panel discussion of issues associated with the implementation of the National Provider Identifier (NPI). The afternoon will include a second NPI panel discussion followed by Subcommittee discussion. The morning of April 5 will be devoted to development of recommendations for Consolidated Health Informatics Initiative (CHI) standards on multimedia; HIPAA Return on Investment (ROI) and lessons learned; and matching patients to their records. The hearings will adjourn following Subcommittee discussion.

Contact Person For More Information: Substantive program information as well as summaries of meetings and a roster of Committee members may be obtained from Maria Friedman, Health Insurance Specialist, Security and Standards Group, Centers for Medicare and Medicaid Services, MS: C5-24-04, 7500 Security Boulevard, Baltimore, MD 21244-1850, telephone: 410-786-6333 or Marjorie S. Greenberg, Executive Secretary, NCVHS, National Center for Health Statistics, Centers for Diseases Control and Prevention, Room 1100, Presidential Building, 3311 Toledo Road, Hyattsville, Maryland 20782, telephone: (301) 458-4245. Information also is available on the NCVHS home page of the HHS Web site http://www.ncvhs.hhs.gov/ where an agenda for the meeting will be posted when available. Should you require reasonable accommodation, please contact the CDC Office of Equal Employment Opportunity on (301) 458-4EEO (4336) as soon as possible.

Dated: March 21, 2006.
James Scanlon,
Deputy Assistant Secretary for Science and Data Policy, Office of the Assistant Secretary for Planning and Evaluation.

[FR Doc. 06-3171 Filed 3-31-06; 8:45am]

BILLING CODE 4151-05-M